DEPARTMENT OF THE INTERIOR

National Park Service

Guidlines for Architectural and Engineering Documentation

ACTION: Notice.

SUMMARY: This notice sets forth revisions to the Secretary of the Interior's Guidelines for Architectural and Engineering Documentation. These guidelines are not regulatory and do not set or interpret agency policy. They are intended to provide technical advice on how to produce architectural and engineering documentation.

DATES: Guidelines are effective on Tuesday, April 1, 2003.

FOR FURTHER INFORMATION CONTACT: E. Blaine Cliver, Chief, HABS/HAER/HALS, National Park Service, United States Department of the Interior, Washington, DC 20240-0001 (202-354-2159).

SUPPLEMENTARY INFORMATION: Guidelines are prepared under the authority of section 101(g) and section 110 of the National Historic Preservation Act of 1966, as amended. The revisions contained herein update the Secretary of the Interior's Guidelines for Architectural and Engineering Documentation of September 29, 1983 (Federal Register, Vol. 48, No. 190, Thursday, September 29, 1983, pp. 44731-34).

Secretary of the Interior's Guidelines for Architectural and Engineering Documentation

Introduction. The following guidelines provide more specific procedural and technical information on how to produce architectural and engineering documentation and outline one approach to meeting the Secretary of the Interior's Standards. Agencies, organizations or individuals proposing to approach documentation differently may wish to review their plans with the National Park Service.

The Guidelines are organized as follows:

Definitions

Goal of Documentation

Content

Quality

Materials

Presentation

Architectural and Engineering Documentation Prepared for Other Purposes

Definitions. The following definitions are used in conjunction with these guidelines:

Documentation—measured drawings, photographs, histories, or other media that depict historic buildings, sites, structures, objects or landscapes.

Field Photography—photography other than large-format photography (usually 35mm), intended for the purposes of producing documentation.

Field Records—notes of measurements taken, field photographs and other recorded information intended for the purpose of producing documentation.

Large-Format Photographs—photographs taken of historic buildings, sites, structures, objects, or landscapes where the dimensions of the negatives are either 4″ × 5″, 5″ × 7″ or 8″ × 10″ and where the photographs are taken with appropriate means to correct perspective distortion.

Measured Drawings—drawings produced according to HABS/HAER/HALS guidelines depicting existing conditions or other relevant features of historic buildings, sites, structures, objects or landscapes. Measured drawings are usually produced in ink on an archival material, such as Mylar.

Written Data—inventory forms, data sheets, historical reports, or other original, written works of varying lengths that describe a building, site, structure, object, or landscape and highlight its historical, architectural, technological, or cultural significance.

Photocopy—a photograph, with large-format negative, of a photograph or drawings.

Select Existing Drawings—drawings of historic buildings, sites, structures, objects or landscapes, whether original construction or later alteration drawings that portray or depict the historic value or significance.

Sketch Plan—a floor or site plan, usually not to exact scale although often drawn from measurements, where the features are shown in proper relation and proportion to one another.

Goal of Documentation. The Historic American Buildings Survey (HABS), the Historic American Engineering Record (HAER), and the Historic American Landscapes Survey (HALS) are the national historical architectural, engineering and landscape documentation programs of the National Park Service. The goal of HABS/HAER/HALS documentation is to provide architects, engineers, scholars, preservationists, and interested members of the public with comprehensive information on the historical, architectural, technological, or cultural significance of a building, site, structure, object or landscape. Placed on permanent deposit at the Library of Congress, HABS/HAER/HALS documentation serves as a permanent record of the growth and development of the nation's built environment.

HABS/HAER/HALS documentation usually consists of measured drawings, large-format photographs and written data that highlight the significance of a building, site, structure, object or landscape. This documentation acts as a form of insurance against fires and natural disasters by permitting the repair and, if necessary, reconstruction of historic resources damaged by such disasters. It is also used for scholarly research, interpretation, and education, and it often provides the basis for enforcing preservation easement. HABS/HAER/HALS documentation is often the last means of preservation of a property: when a property is to be demolished, documentation provides future researchers access to valuable information that otherwise would be lost.

HABS/HAER/HALS documentation is developed in a number of ways. The National Park Service regularly employs summer teams of student architects, engineers, and historians to develop HABS/HAER/HALS documentation under the supervision of National Park Service professionals. The National Park Service also produces HABS/HAER/HALS documentation in conjunction with restoration or other preservation treatment of historic buildings managed by the National Park Service. Federal agencies, pursuant to section 110(b) of the National Historic Preservation Act, as amended, record those historic properties to be demolished or substantially altered as a result of agency action or assisted action (referred to as mitigation projects). Finally, individuals and organizations prepare documentation to HABS/HAER/HALS standards and donate the documentation to the programs.

The Secretary of the Interior's Standards describe in general terms the fundamental principals of HABS/HAER/HALS documentation. They are supplemented by other material describing more specific guidelines, preferred techniques for architectural photography, and formats for written historical reports. This technical information is found in the procedure manuals for the individual programs.

These guidelines contain useful information on how to produce documentation for other archives, such as state or local archives. The State Historic Preservation Officer (SHPO) or the state library should be consulted regarding archival requirements if the documentation is to become part of its collection. In establishing archives, the important questions of durability and reproducibility should be considered in relation to the purposes of the collection.

Documentation prepared for the HABS/HAER/HALS collections must meet the requirements below. The HABS/HAER/HALS office of the National Park Service reserves the right to refuse documentation that does not meet these requirements.

Content

Standard: Documentation shall adequately explicate and illustrate what is significant or valuable about the historic building, site, structure, object or landscape being documented.

Guideline: Documentation shall meet one of the following requirements for content:

A. Level I

1. Drawings: a full set of measured drawings depicting existing or historic conditions

2. Photographs: photographs with large-format negatives of exterior and interior views; photocopies with large-format negatives of select, existing drawings or historic views that are produced in accordance with the U.S. Copyright Act (as amended)

3. Written data: history and description

B. Level II

1. Drawings: select existing drawings, where available, may be photographed with large-format negatives or photographically reproduced on Mylar in accordance with the U.S. Copyright Act, as amended

2. Photographs: photographs with large-format negatives of exterior and interior views, or historic views where available and produced in accordance with the U.S. Copyright Act, as amended

3. Written data: history and description

C. Level III

1. Drawings: sketch plan

2. Photographs: photographs with large-format negatives of exterior and interior views

3. Written data: short form for historical reports

Commentary. The kind and amount of documentation should be appropriate to the nature and significance of the subject. For example, Level I would be inappropriate for a building that is a minor element of an historic district, notable only for context and scale. A full set of measured drawings for such a minor building would be expensive and would likely add little new insight into the growth and development of the built environment at either the local, regional, or national level. Large-format photography (Level III) would be the more appropriate choice for documenting this type of building.

Similarly, the aspect of the building, site, structure, object or landscape being documented should reflect the subject's overall significance. For example, measured drawings of Dankmar Adler and Louis Sullivan's Auditorium Building in Chicago should indicate not only facades, floor plans and sections, but also the innovative structural and mechanical systems that were incorporated into that building. Large-format photography of Gunston Hall in Fairfax County, Virginia, to take another example, should clearly show William Buckland's hand-carved moldings in the Palladian Room, as well as other views, since Buckland's role in the creation of the building is one of the reasons why Gunston Hall is considered architecturally significant.

HABS/HAER/HALS documentation is usually in the form of measured drawings, photographs, and written data. While the criteria in this section have addressed only these media, documentation need not be limited to them. Other media, such as films of industrial processes, can be—and have been—used to document historic buildings, sites, structures, objects and landscapes. If other media are to be used, the HABS/HAER/HALS office should be contacted before recording.

The selection of the appropriate documentation level will vary from one project to the next. For mitigation documentation projects, this level will be selected by the National Park Service Regional Office and communicated to the agency responsible for completing the documentation. Generally, Level I documentation is required for nationally significant buildings and structures, defined as National Historic Landmarks and the primary historic units of the National Park Service.

On occasion, factors other than significance will dictate the selection of another level of documentation. For example, if a rehabilitation of a property is planned, the owner may wish to have a full set of as-built drawings, even though the property may not merit Level I documentation.

HABS Level I measured drawings usually depict existing conditions through the use of a site plan, floor plans, elevations, sections and construction details. HAER Level I measured drawings will frequently depict original conditions where adequate historical material exists, so as to illustrate manufacturing or engineering processes.

Level II documentation differs from Level I by substituting copies of existing drawings, either original or alteration drawings, for recently executed measured drawings. If this is done, the drawings must meet HABS/HAER/HALS requirements outlined below and be free of copyrights. While existing drawings are rarely as suitable as as-built drawings, they are adequate in many cases for documentation purposes. Only when the desirability of having as-built drawings is clear are Level I measured drawings required in addition to existing drawings. If existing drawings are housed and preserved in an accessible archival collection, their reproduction for HABS/HAER/HALS may not be necessary. In other cases, Level I measured drawings are required in the absence of existing drawings.

Level III documentation requires a sketch plan if it helps to explain the structure, site, or landscape. A short historical report should supplement the photographs by explaining what is not readily visible.

The HABS/HAER/HALS office reserves the right to refuse documentation that does not meet these requirements for content.

Quality

Standard: Documentation shall be prepared accurately from reliable sources with limitations clearly stated to permit independent verification of the information.

Guideline: Documentation shall meet the following requirements for quality:

A. Measured drawings: Measured drawings shall be produced from recorded, accurate measurements. Portions of the building that were not accessible for measurement should not be drawn on the measured drawings but clearly labeled as not accessible or drawn from available construction drawings and other sources. No part of the measured drawings shall be produced from hypothesis or non-measurement related activities. Level I measured drawings shall be accompanied by a set of field notebooks in which the measurements were first recorded. Other drawings prepared for Levels II and III shall include a statement describing where the original drawings are located.

B. Large-format photographs: Large-format photographs shall clearly depict the appearance of the property and areas of significance of the recorded building, site, structure, object or landscape. Each view shall be perspective-corrected and fully captioned.

C. Written data: Written history and description for Levels I and II shall be based on primary sources to the greatest extent possible. For Level III, secondary sources may provide adequate information; if not, primary research will be necessary. A frank assessment of the reliability and limitations of the sources shall be included. Within the written history, statements shall be footnoted as to their sources, where appropriate. The written data shall include a methodology section specifying the name of the researcher, date of research, sources consulted, and the limitations of the project.

Commentary. The quality of architectural documentation cannot be easily prescribed or quantified, but it derives from a process in which thoroughness of research and factual accuracy play a large part, and it acts, for better or worse, as a measure of the integrity and reliability of the information. HABS/HAER/HALS promotes documentation of the highest quality and the principle of independent verification of all factual information.

The HABS/HAER/HALS office reserves the right to refuse documentation that does not meet these requirements for quality.

Materials

Standard: Documentation shall be prepared on materials that are readily reproducible, durable and in standard sizes.

Guideline: The following material requirements shall be met for all levels of documentation:

A. Measured Drawings

Readily Reproducible: Ink on translucent material, such as Mylar.

Durable: Ink on archival media.

Standard Sizes: Three sizes: 19″×24″, 24″×36″ or 34″×44″

B. Large-Format Black & White Photographs

Readily Reproducible: One print per negative.

Durable: Photography processed and stored according to archival standards; negatives on safety film only; prints on fiber paper, such as AZO paper; no resin-coated paper.

Standard Sizes: Three sizes: 4″×5″, 5″×7″ or 8″×10″.

C. Large-Format Color Transparencies

Readily Reproducible: One identical black & white negative and print per color transparency; one duplicate transparency and electrostatic or laser copy per color transparency.

Durable: Photography processed and stored according to archival standards

Standard Sizes: Three sizes: 4″×5″, 5″×7″ or 8″×10″

D. Written History and Description

Readily Reproducible: Clean copy for photocopying

Durable: Archival bond

Standard Sizes: 8½″×11″

E. Field Records

Readily Reproducible: Field notebooks may be photocopied. Photo identification sheet shall accompany 35mm negatives and contact sheets.

Durable: No requirements.

Standard Sizes: Only requirement is that materials can be made to fit into a 9½″×12″ archival file folder.

Commentary. All HABS/HAER/HALS materials are intended for reproduction. Some 20,000 records are reproduced each year by the Library of Congress. Although field records are not generally reproduced, they are intended to serve as supplements to the formal documentation. The basic durability performance standard (that is to say, life expectancy) for HABS/HAER/HALS materials is 500 years. Ink on Mylar is believed to meet this standard, while color photography does not (although color transparencies are acceptable, their life expectancy is considerably shorter—50 years or less). Field records do not meet this standard but are maintained in the HABS/HAER/HALS collections as a courtesy to collections patrons.

The HABS/HAER/HALS office reserves the right to refuse documentation that does not meet these requirements for materials.

Presentation

Standard: Documentation shall be clearly and concisely produced.

Guideline: The following requirements for presentation shall be met for all levels of documentation:

A. Measured Drawings: Level I measured drawings shall be lettered mechanically (i.e., CAD, Leroy or similar) or in a hand-printed equivalent style. Adequate dimensions shall be included on all sheets. Level III sketch plans should be neat and orderly.

B. Large-format photographs: Level I photographs shall include duplicate photographs that include a scale. Level II and III photographs shall include, at a minimum, at least one photograph with a scale, usually of the principal facade.

C. Written history and description: Data shall be typewritten or laser printed on bond, following accepted rules of grammar.

Commentary. The HABS/HAER/HALS office reserves the right to refuse documentation that does not meet these requirements for presentation.

Architectural and Engineering Documentation Prepared for Other Purposes

Where a preservation planning process is initiated, architectural and engineering documentation, like other treatment activities, is undertaken to achieve the goals identified by that process. Documentation is deliberately selected as a treatment for properties evaluated as significant, and the development of the documentation program for a property follows from the planning objectives. Documentation efforts focus on the significant characteristics of the historic subject, as defined in the previously completed evaluation. The selection of a level of documentation techniques (measured drawings, photography, etc.) is based on the significance of the subject and the management needs for which the documentation is being performed. For example, the kind and level of documentation required to record a historic property for easement purposes may be less detailed than the kind and level required as mitigation prior to destruction of the property. In the former case, essential documentation might be limited to portions of the property controlled by the easement (exterior facades, for example), while in the latter case, significant interior architectural features and non-visible structural details would also be documented.

HABS/HAER/HALS encourages other archives to use the Secretary of the Interior's Standards and related HABS/HAER/HALS guidelines as a basis for their own documentation guidelines. Levels of documentation and the durability and sizes of the items may vary depending on the intended use of the materials and various storage and preservation considerations. Review of documentary sources and the periodic verification of factual information in the documentation are among the best means of assuring quality. The reliability of the documentation is only strengthened by an accounting of the limitations of the research and physical examination of the property, and by retaining the primary data (field measurements and notebooks) from which the archival record was produced. The long-term usefulness of the documentation is directly related to the quality and durability of the materials (ink, paper, film, etc.) used to record the historic resource.

Dated: March 18, 2003.
E. Blaine Cliver,
Chief.

[FR Doc. 03-18197 Filed 7-18-03; 8:45 am]

BILLING CODE 4312-52-P